DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 13, 2002.

ADDRESSES: Written comments and recommendations on the proposed information collection should be sent to the U.S. Army Corps of Engineers, Directorate of Civil Works, 441 G Street, NW., Washington, DC 20314-1000, ATTN: CECW-OR (Celestine S. Robertson). Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title, Associated Form, and OMB Number: Customer Service Survey—Regulatory Program U.S. Army Corps of Engineers; ENG Form 5065; OMB Control No. 0710-0012.

Needs and Uses: Survey of applicants who are required to obtain permits from the U.S. Army Corps of Engineers to build on or conduct dredge and fill operations in United States waters. Opinions on the quality of service are used to make program improvements.

Affected Public: Business or Other for Profit.

Annual Burden Hours: 15,000.

Number of Respondents: 60,000.

Responses per Respondent: 1.

Average Burden per Response: 15 minutes.

Frequency: On occasion.

SUPPLEMENTARY INFORMATION: The Corps will conduct surveys of customers at our districts, division and headquarters offices, currently a total of 49 offices. Most customer responses will be solicited by the 38 districts. These elements will tabulate their survey results and send copies to headquarters for a Corps wide tabulation. The survey form will be provided to the public when they receive a regulatory product, primarily a permit decision or wetland determination.

Luz Ortiz,
Army Federal Register Liaison Officer.

[FR Doc. 02-5908 Filed 3-11-02; 8:45 am]

BILLING CODE 3710-08-M